DEPARTMENT OF TRANSPORTATION

Federal Highway Administration

Environmental Impact Statement: Salt Lake County, UT

AGENCY: Federal Highway Administration (FHWA), DOT.

ACTION: Withdrawal of Notice of Intent.

SUMMARY: The FHWA is issuing this notice to advise the public that the effort to prepare an Environmental Impact Statement (EIS) will be terminated for transportation improvements in the corridor of Redwood Road (SR-68) in Salt Lake County, Utah.

FOR FURTHER INFORMATION CONTACT: Sandra Garcia-Aline, Environmental Engineer, FHWA, Utah Division, 2520 West 4700 South, Suite 9A, Salt Lake City, UT 84118, Telephone (801) 963-0182; or Rob Wight, Utah Department of Transportation (UDOT), 2010 South 2760 West, Salt Lake City, UT 84104, Telephone (801) 887-3438.

SUPPLEMENTARY INFORMATION: The FHWA is cooperation with the UDOT have elected to terminate efforts to prepare an EIS for transportation improvements in the corridor of Redwood Road (SR-68) from 10400 South in the city of South Jordan to Bangerter Highway (SR-172) in the city of Bluffdale, Salt Lake County, Utah. The original Notice of Intent was published on May 29, 2003, anticipating Utah Department of Transportation (UDOT) would request Federal funding for project construction. The UDOT has recently elected to fully fund the project with State funds. No federal funds or federal action will be required for the project. The UDOT will prepare a State Environmental Study for the project. Comments or questions concerning this action should be directed to FHWA at the address provided above.

(Catalog of Federal and Domestic Assistance Program Number 20.205, Highway Research, Planning and Construction. The regulations implementing Executive Order 12372 regarding intergovernmental consultation on Federal programs and activities apply to this program.)

Issued on: May 19, 2004.
Gregory S. Punske,
Environmental Program Manager, Utah Division, Federal Highway Administration, Salt Lake City, Utah.

[FR Doc. 04-11813 Filed 5-24-04; 8:45 am]

BILLING CODE 4910-22-M